DEPARTMENT OF TRANSPORTATION

Pipeline and Hazardous Materials Safety Administration

Hazardous Materials: Delayed Applications

AGENCY: Office of Hazardous Materials Safety, Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on June 23, 2015.
Ryan Paquet,
Director, Approvals and Permits Division.

Application No. | Applicant | Reason for delay | Estimated date of completion
MODIFICATION TO SPECIAL PERMITS
8451-M | Special Devices, Inc., Mesa, AR | 4 | 06-30-2015
15744-M | Praxair Distribution, Inc., Danbury, CT | 4 | 06-25-2015
7945-M | Pacific Scientific Company, Simi Valley, CA | 4 | 06-25-2015
15393-M | Savannah Acid Plant LLC, Savannah, GA | 3 | 06-30-2015
NEW SPECIAL PERMIT APPLICATIONS
15767-N | Union Pacific Railroad Company, Omaha, NE | 1 | 06-20-2015
16001-N | VELTEK ASSOCIATES, INC., Malvern, PA | 4 | 06-30-2015
16190-N | Digital Wave Corporation, Centennial, CO | 4 | 06-29-2015
16198-N | Fleischmann's Vinegar Company, Inc., CERRITOS, CA | 4 | 07-15-2015
16212-N | Entegris, Inc., Billerica, MA | 4 | 06-30-2015
16220-N | Americase, Waxahache, TX | 4 | 07-30-2015
16193-N | CH&I Technologies, Inc., Santa Paula, CA | 4 | 06-29-2015
16261-N | Dexsil Corporation, Hamden, CT | 4 | 07-13-2015
16232-N | Linde Gas North America LLC, Murray HIll, NJ | 1 | 07-05-2015
16249-N | Optimized Energy Solutions, LLC, Durango, CO | 4 | 06-30-2015
16320-N | Digital Wave Corporation, Centennial, CO | 4 | 06-29-2015
16346-N | FIBA Technologies, Inc., Littleton, MA | 4 | 07-15-2015
16337-N | Volkswagen Group of America (VWGoA), Herndon, VA) | 4 | 06-30-2015
16318-N | Technical Chemical Company, Cleburne TX | 4 | 07-17-2015
16484-N | Rotarex North America, Mount Pleasant, PA | 4 | 07-15-2015
PARTY TO SPECIAL PERMITS APPLICATION
16279-P | National Hazard Control, Tempe, AZ | 4 | 06-30-2015
RENEWAL SPECIAL PERMITS APPLICATIONS
11860-R | GATX Corporation, Chicago, IL | 1 | 07-15-2015
11296-R | Environmental Waste Services, Inc., Elburn, IL | 4 | 06-30-2015
8009-R | NK Co., Ltd., Busan City, KR | 4 | 06-30-2015
13976-R | Osmose Utilities Services, Inc., Tyrone, GA | 4 | 06-30-2015

[FR Doc. 2015-15845 Filed 6-30-15; 8:45 am]

BILLING CODE 4910-60-M